DEPARTMENT OF COMMERCE

National Oceanic and Atmospheric Administration

50 CFR Part 622

[Docket No. 1206013412-2517-02]

RIN 0648-XD230

Reef Fish Fishery of the Gulf of Mexico; 2014 Recreational Accountability Measure for Greater Amberjack in the Gulf of Mexico

AGENCY: National Marine Fisheries Service (NMFS), National Oceanic and Atmospheric Administration (NOAA), Commerce.

ACTION: Temporary rule; accountability measure.

SUMMARY: NMFS implements an accountability measure (AM) for recreational greater amberjack in the Gulf of Mexico (Gulf) reef fish fishery for the 2014 fishing year through this temporary final rule. This rule reduces the Gulf greater amberjack 2014 recreational annual catch target (ACT) (equal to the recreational quota) to 862,512 lb (391,229 kg) and reduces the 2014 recreational annual catch limit (ACL) to 1,031,512 lb (467,886 kg), based on the 2013 recreational ACL overage. These actions are necessary to reduce overfishing of the Gulf greater amberjack resource.

DATES: This rule is effective April 23, 2014, through December 31, 2014.

FOR FURTHER INFORMATION CONTACT: Rich Malinowski, Southeast Regional Office, telephone 727-824-5305, email rich.malinowski@noaa.gov.

SUPPLEMENTARY INFORMATION: The reef fish fishery of the Gulf, which includes greater amberjack, is managed under the Fishery Management Plan for the Reef Fish Resources of the Gulf of Mexico (FMP). The FMP was prepared by the Council and is implemented through regulations at 50 CFR part 622 under the authority of the Magnuson-Stevens Fishery Conservation and Management Act (Magnuson-Stevens Act). All weights specified in this rule are round weight.

The Gulf greater amberjack recreational ACL is 1,299,000 lb (589,216 kg), and the recreational ACT (recreational quota) is 1,130,000 lb (512,559 kg), as specified in 50 CFR 622.41(a)(2)(iii) and 50 CFR 622.39(a)(2)(ii), respectively.

In accordance with regulations at 50 CFR 622.41(a)(2)(ii), if landings exceed the recreational ACL, then during the following fishing year, both the recreational ACT (recreational quota) and the recreational ACL will be reduced by the amount of the prior year's recreational ACL overage.

NMFS determined that the 2013 recreational landings were 1,566,488 lb (710,547 kg), which exceeded the 2013 recreational ACL of 1,299,000 lb (589,216 kg) by 267,488 lb (121,331 kg). Therefore, NMFS implements a post-season AM for recreational greater amberjack in the Gulf for the 2014 fishing year through this temporary rule. The reduced 2014 recreational ACT (recreational quota) for Gulf greater amberjack is 862,512 lb (391,229 kg) (i.e., 1,130,000-lb (512,559-kg) recreational ACT minus the overage of 267,488 lb (121,331 kg)). The reduced 2014 recreational ACL for Gulf greater amberjack is 1,031,512 lb (467,886 kg) (i.e., 1,299,000-lb (589,216-kg) recreational ACL minus the overage of 267,488 lb (121,331 kg)).

The 2015 recreational ACT (recreational quota) for greater amberjack will return to 1,130,000 lb (512,559 kg), as specified at 50 CFR 622.39(a)(2)(ii), and the recreational ACL for greater amberjack will return to 1,299,000 lb (589,216 kg), as specified in 50 CFR 622.41(a)(2)(iii), unless AMs are implemented due to a recreational ACL overage, or the Council takes subsequent regulatory action to adjust the recreational ACT (recreational quota) and recreational ACL.

Classification

The Regional Administrator, Southeast Region, NMFS, has determined this temporary rule is necessary for the conservation and management of Gulf greater amberjack and is consistent with the Magnuson-Stevens Act and other applicable laws.

This action is taken under 50 CFR 622.41(a)(2)(ii) and is exempt from review under Executive Order 12866.

These measures are exempt from the procedures of the Regulatory Flexibility Act because the temporary rule is issued without opportunity for prior notice and comment.

Pursuant to 5 U.S.C. 553(b)(B), there is good cause to waive the requirements to provide prior notice and opportunity for public comment on this temporary rule. Such procedures are unnecessary because the AMs established by Amendment 35 to the FMP (77 FR 67574, November 13, 2013) and located at 50 CFR 622.41(a)(2)(ii) authorize the Assistant Administrator, NMFS, to file a notification with the Office of the Federal Register to reduce the recreational ACT (recreational quota) and recreational ACL the following fishing year when the recreational ACL is exceeded. The proposed rule for Amendment 35 (77 FR 42476, July 19, 2012) was already subject to notice and comment and all that remains is to notify the public of the 2014 recreational ACT (recreational quota) and recreational ACL for Gulf greater amberjack.

Allowing prior notice and opportunity for public comment is contrary to the public interest because of the need to immediately implement this action to protect the greater amberjack resource. Any delay in notification of the public of the 2014 recreational ACT (recreational quota) and recreational ACL could result in the recreational ACT or ACL for greater amberjack being exceeded, which, in turn, would trigger an in-season AM in 2014 or post-season AMs in 2015 for greater amberjack, respectively.

For the aforementioned reasons, the Assistant Administrator, NMFS, also finds good cause to waive the 30-day delay in the effectiveness of this action under 5 U.S.C. 553(d)(3).

Authority: 16 U.S.C. 1801 et seq.

Dated: April 18, 2014.
Emily H. Menashes,
Acting Director, Office of Sustainable Fisheries, National Marine Fisheries Service.

[FR Doc. 2014-09260 Filed 4-22-14; 8:45 am]

BILLING CODE 3510-22-P